DEPARTMENT OF COMMERCE

National Oceanic and Atmospheric Administration

RIN 0648-XF885

Pacific Fishery Management Council; Public Meeting

AGENCY: National Marine Fisheries Service (NMFS), National Oceanic and Atmospheric Administration (NOAA), Commerce.

ACTION: Notice of public meeting.

SUMMARY: The Pacific Fishery Management Council (Pacific Council) will host the Sixth National Meeting of the Scientific Coordination Subcommittee of the Council Coordination Committee (SCS6). The meeting theme is “The Use of Management Strategy Evaluation to Inform Management Decisions Made by the Regional Fishery Management Councils,” with three subthemes: Use of MSEs in evaluating and modifying harvest control rules; use of MSEs in investigating and accommodating uncertainty; and use of MSEs in adjusting harvest control rules in changing environments/non-static maximum sustainable yield. The agenda for the SCS6 meeting is available at http://www.fisherycouncils.org/ssc-workshops/sixth-national-ssc-workshop-2018.

DATES: The SCS6 meeting will be held on January 17-19, 2018. The meeting will begin at 8 a.m. Pacific Standard Time (PST) each day and finish when business is complete for the day.

ADDRESSES: The SCS6 meeting will be held at the Kona Kai Resort, 1551 Shelter Island Drive, San Diego, CA; telephone: (619) 221-8000. The meeting is open to the public and will also be streamed online for those who want to follow the proceedings remotely. Instructions for attending the meeting via live stream broadcast are given under SUPPLEMENTARY INFORMATION, below.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The SCS6 meeting will be live‐streamed on the internet during the following hours: Wednesday, January 17, 2018 through Friday, January 19, 2018 beginning at 8 a.m. PST, ending daily at approximately 5:30 p.m. PST or when business for the day is complete. Only the audio portion and presentations displayed on the screen at the SCS6 meeting will be broadcast. The audio portion is listen‐only; you will be unable to speak to the meeting participants via the broadcast. To attend the webinar, (1) join the meeting by visiting this link http://www.gotomeeting.com/online/webinar/join-webinar; (2) enter the webinar ID: 367-785-355, and (3) enter your name and email address (required). It is recommended that you use a computer headset to listen to the meeting, but you may use your telephone for the audio-only portion of the meeting by dialing the toll number 1-562-247-8422 (not a toll-free number); enter the phone attendee audio access code: 621-905-598; then enter the Audio Pin: Shown after joining the webinar. Technical Information and System Requirements: PC-based attendees are required to use Windows® 7, Vista, or XP; Mac®-based attendees are required to use Mac OS® X 10.5 or newer; Mobile attendees are required to use iPhone®, iPad®, Android™ phone or Android tablet (See the http://www.gotomeeting.com/fec/webinar/gotowebinar_apps).

The purpose of the SCS6 meeting is for participants to discuss the use of Management Strategy Evaluations to better inform management decision-making by the eight Regional Fishery Management Councils and NMFS.

No management actions will be decided by the participants attending the SCS6 meeting. The participants' role will be the development of findings, which will be captured in proceedings of the meeting. These proceedings will be provided to the Council Coordination Committee and posted on the U.S. Regional Fishery Management Councils' website.

Although nonemergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the meeting participants to take final action to address the emergency.

Special Accommodations

These meetings are physically accessible to people with disabilities. Requests for sign language interpretation or other auxiliary aids should be directed to Mr. Kris Kleinschmidt (503) 820-2411 at least 10 days prior to the meeting date.

Dated: December 14, 2017.
Tracey L. Thompson,
Acting Deputy Director, Office of Sustainable Fisheries, National Marine Fisheries Service.

[FR Doc. 2017-27290 Filed 12-18-17; 8:45 am]

BILLING CODE 3510-22-P